COUNCIL ON ENVIRONMENTAL QUALITY

The National Environmental Policy Act and Collaboration

AGENCY: Council On Environmental Quality.

ACTION: Notice of Availability, Collaboration in NEPA—A Handbook for NEPA Practitioners.

SUMMARY: The Council on Environmental Quality (CEQ) has published “Collaboration in NEPA—A Handbook for NEPA Practitioners.” Designed to assist Federal agencies in more effective use of collaboration throughout the National Environmental Policy Act (NEPA) process, the handbook is a product of an interagency work group. Public comments were solicited and the handbook was finalized after considering the comments received. “Collaboration in NEPA” is available from CEQ and can be accessed at http://www.NEPA.gov under the heading “Current Developments.”

ADDRESSES: Electronic or facsimile requests are preferred because Federal agencies often experience mail delays as a result of security screening. Requests can be submitted via electronic mail to hgreczmiel@ceq.eop.gov with the subject line “NEPA Modernization (Collaboration-NEPA).” Fax requests to “NEPA Modernization (Collaboration-NEPA)” at (202) 456-0753. Requests can also be mailed to NEPA Modernization (Collaboration-NEPA), Attn: Associate Director for NEPA Oversight, 722 Jackson Place, NW., Washington, DC 20503.

FOR FURTHER INFORMATION CONTACT: Horst Greczmiel at (202) 395-5750.

SUPPLEMENTARY INFORMATION: The Council on Environmental Quality (CEQ) established a National Environmental Policy Act (NEPA) Task Force and is implementing recommendations to modernize the implementation of NEPA and make the NEPA process more effective and efficient. More information about the task force is posted on the task force Web site at http://ceq.eh.doe.gov/ntf. CEQ requested public comments on the proposed handbook on March 26, 2007, 72 FR 14103. Comments received are posted at http://ceq.eh.doe.gov/ntf/implementation.html.

The handbook suggests ways in which Federal agencies can use collaboration and environmental conflict resolution strategies when preparing NEPA analyses and documentation. Collaboration is encouraged during the NEPA process as a whole and toward that end the handbook emphasizes engaging a balanced set of affected and interested parties in seeking agreement at one or more stages of the NEPA process by cultivating shared vision, trust, and communication. Acknowledging that collaboration during the NEPA process can vary considerably depending on the phase of the process and the roles by the lead agency assigns to each party, the handbook notes that providing opportunities for participation on the part of stakeholders, supplemented with outreach efforts, may be appropriate.

The phases for collaboration outlined in the handbook begin with the assessment and planning phase, often referred to as “conflict” or “situation” assessments, when agencies clarify the issues and assess the opportunity for collaboration. This is followed by the convening and initiation phase when the lead agency brings parties together to inform them about the process and to develop a plan for how they can work together. Sharing interests, exchanging information, and identifying gaps in knowledge is then followed by the phase where participants seek agreement through deliberation and negotiation. That is often considered the heart of the collaborative process. The fifth and final phase is the decision-making and implementation phase.

“Collaboration in NEPA” links those phases for collaboration to the stages of the NEPA process, including developing the proposed action, establishing the purpose and need, conducting scoping, developing alternatives, and analyzing impacts. The handbook concludes with a discussion of the challenges facing collaboration and providing tools for practitioners such as strategies for preventing conflicts, attitudes and behaviors to enhance collaboration, case studies, a compendium of resources, and examples of memoranda of agreement.

In response to comments on the draft handbook the final handbook was improved in several ways. The discussion of collaboration at the various stages of the NEPA process was consolidated and the guide that provides examples and identifies options and tools for collaboration was augmented. Appendices were reorganized, references and case studies updated, roles of the lead agencies and applicants clarified, and the compendium of resources expanded.

November 1, 2007.
James L. Connaughton,
Chairman, Council on Environmental Quality.

[FR Doc. E7-21881 Filed 11-6-07; 8:45 am]

BILLING CODE 3125-W8-P